NATIONAL PRISON RAPE ELIMINATION COMMISSION

Notice of Availability for Public Comment on NPREC Draft Standards

AGENCY: National Prison Rape Elimination Commission.

ACTION: Notice.

SUMMARY: The National Prison Rape Elimination Commission is announcing the release and availability for public comment on its Draft Standards for the Prevention, Detection, Response, and Monitoring of Sexual Abuse in Adult Prisons, Jails, and supplemental standards for facilities holding Immigration Detainees.

DATES: The comment period will begin May 5, 2008 and close on July, 7, 2008. All comments must be received by 5 p.m. E.D.T. on Monday, July 7, 2008.

ADDRESSES: The preferred comment method is via the Microsoft Word form accessible at the NPREC Web site (http://www.nprec.us). This form can be downloaded and used to submit comments via mail, e-mail and/or fax. E-mailed comment forms should be sent to comments@nprec.us. To submit via mail, fill out the form, then print and mail to: National Prison Rape Elimination Commission, 1440 New York Avenue, NW., Suite 200, Washington, DC 20005-2111. Faxed forms should be sent to (202) 233-1089.

FOR FURTHER INFORMATION CONTACT: Questions regarding the comment process should be directed to the National Prison Rape Elimination Commission at (202) 233-1090.

SUPPLEMENTARY INFORMATION: The National Prison Rape Elimination Commission (“NPREC” or “the Commission”) is a bipartisan panel created by Congress as part of the Prison Rape Elimination Act of 2003. The Commission is charged with studying federal, state and local government policies and practices related to the prevention, detection, response and monitoring of sexual abuse in correctional and detention facilities in the United States. Consistent with the Act, the Commission's recommendations will be designed to make the prevention of sexual abuse a top priority in America's jails, prisons, lock-ups, juvenile facilities, and other detention facilities.

Since its creation, the Commission has undertaken a comprehensive legal and factual study of the penological, physical, mental, medical, social and economic impacts of prison sexual abuse on federal, state and local government functions and on the communities and social institutions in which they operate.

Upon completion of its study, the Commission will report its findings, conclusions and recommendations to the President, Congress, the U.S. Attorney General and other federal and state officials. As a key component of its report, the panel will include the statutorily required zero-tolerance standards.

This notice is to announce the release of Draft Standards for the Prevention, Detection, Response, and Monitoring of Sexual Abuse in Adult Prisons, Jails, and supplemental standards for facilities holding Immigration Detainees, for a public comment period of 60 days. Written comments about these draft standards are invited from the public, as well as affected agencies and organizations.

This draft can be accessed and downloaded from the NPREC Web site: http://www.nprec.us. A hard copy of the NPREC draft standards is available by mailing a request to the NPREC address, by telephoning (202) 233-1090, or via e-mail at nprec@nprec.us.

Separate draft standards for Lock-Ups, Juvenile and Community Corrections facilities will become available for public comment in June 2008. Separate notice and comment forms will be posted for this purpose in June.

Dated: April 24, 2008.
Margaret M. Chiara,
General Counsel, National Prison Rape Elimination Commission.

[FR Doc. E8-9596 Filed 4-30-08; 8:45 am]

BILLING CODE 4410-18-P